DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Addiction Technology Transfer Centers (ATTC) Network Program Monitoring (OMB No. 0930-0216)—Revision

The Substance Abuse and Mental Health Administration's (SAMHSA) Center for Substance Abuse Treatment (CSAT) will continue to monitor program performance of its Addiction Technology Transfer Centers (ATTCs). The ATTCs disseminate current health services research from the National Institute on Drug Abuse, National Institute on Alcohol Abuse and Alcoholism, National Institute of Mental Health, Agency for Health Care Policy and Research, National Institute of Justice, and other sources, as well as other SAMHSA programs. To accomplish this, the ATTCs develop and update state-of-the-art, research-based curricula and professional development training.

Each of the forms is described below. There are no changes to any of the forms. Sixty percent of the forms are administered in person to participants at educational and training events, who complete the forms by paper and pencil. Ten percent of the training courses are online, and thus, those forms are administered online. The remaining thirty percent is made up of those 30-day follow-up forms that are distributed to consenting participants via electronic mail using an online survey tool.

Event Description: The event description form asks approximately 10 questions of the ATTC faculty/staff for each of the ATTC events. The approved form asks the event focus, format, and publications to be used in the event.

Technical Assistance and Meeting Pre-event Information: The ATTCs provide technical assistance, which is a jointly planned consultation generally involving a series of contacts between the ATTC and an outside organization/institution during which the ATTC provides expertise and gives direction toward resolving a problem or improving conditions. A meeting is an ATTC sponsored or co-sponsored event in which a group of people representing one or more agencies other than the ATTC work cooperatively on a project, problem, and/or a policy. For technical assistance and meeting events, the pre-event information form asks approximately 10 questions of each individual who participated in the event. The approved form asks the participants to report their demographic information, education, work setting, responsibilities, and training goals. Satisfaction measures after each technical assistance and meeting event and at 30-day follow-up will be collected using the CSAT Government Performance and Results Act (GPRA) Customer Satisfaction forms. The burden has been approved under OMB # 0930-0197.

Training Forms

Trainings are defined as ATTC sponsored or co-sponsored events, mainly focusing on the enhancement of knowledge and/or skills of counselors and other professionals who work with individuals with substance use disorder-related problems. The study design for trainees will include a description of each event, and a pre-post survey that collects identical information at initiation of ATTC courses/trainings, at the completion of the course/training, and again after 30 days.

Pre-Event Information Form for Training: The pre-event information form for training asks approximately 10 questions of each participant in the training. The approved form asks the participants to report demographic information, education, work setting, responsibilities, and training goals.

Post-Event Information Form for Training: The Post-Event Information Form for Training asks approximately 30 questions of each individual that participated in the training. The approved form asks the participants to report demographic information, satisfaction with the quality of the training and training materials, and to assess their level of skills in the topic area.

Followup Information Form for Training: The Followup Information Form for Training asks about 10 questions of about 25% of consenting participants. The approved form asks the participants to report demographic information, satisfaction with the quality of the training and training materials, and to assess their level of skills in the topic area.

This information will assist CSAT in documenting the numbers and types of participants in ATTC events, describing the extent to which participants report improvement in their clinical competency, and which method is most effective in disseminating knowledge to various audiences. This type of information is crucial to support CSAT in complying with GPRA reporting requirements and will inform future development of knowledge dissemination activities.

The chart below summarizes the annualized burden for this project.

Type of respondent | Number of respondents | Responses per respondent | Hours per response | Total annual burden hours
Faculty/staff: Event Description Form | 200 | 1 | .25 | 50
Meeting and Technical Assistance Participants:Pre-Event Information Form | 3,000 | 1 | .08 | 240
Training Participants:
Pre-Event Information Form | 27,000 | 1 | .13 | 3,510
Post-Event Information Form | 27,000 | 1 | .16 | 4,320
Followup Information | 6,750 | 1 | .16 | 1,080
Total | 30,200 |  |  | 9,200

Written comments and recommendations concerning the proposed information collection should be sent by January 26, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 18, 2006.
Elaine Parry,
Acting Director, Office of Program Services.

[FR Doc. E6-22117 Filed 12-26-06; 8:45 am]

BILLING CODE 4162-20-P